SMALL BUSINESS ADMINISTRATION

[Disaster Declaration #17836 and #17837; MISSISSIPPI Disaster Number MS-00151]

Presidential Declaration Amendment of a Major Disaster for the State of Mississippi

AGENCY: Small Business Administration.

ACTION: Amendment 1.

SUMMARY: This is an amendment of the Presidential declaration of a major disaster for the State of Mississippi (FEMA-4697-DR), dated 03/26/2023.

Incident: Severe Storms, Straight-line Winds, and Tornadoes.

Incident Period: 03/24/2023 through 03/25/2023.

DATES: Issued on 03/30/2023.

Physical Loan Application Deadline Date: 05/25/2023.

Economic Injury (EIDL) Loan Application Deadline Date: 12/26/2023.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: The notice of the President's major disaster declaration for the State of MISSISSIPPI, dated 03/26/2023, is hereby amended to include the following areas as adversely affected by the disaster:

Primary Counties (Physical Damage and Economic Injury Loans): Montgomery, Panola.

Contiguous Counties (Economic Injury Loans Only):

Mississippi: Choctaw, Lafayette, Quitman, Tallahatchie, Tate, Tunica, Webster, Yalobusha.

All other information in the original declaration remains unchanged.

(Catalog of Federal Domestic Assistance Number 59008)

Francisco Sánchez, Jr.,
Associate Administrator, Office of Disaster Recovery & Resilience.

[FR Doc. 2023-07281 Filed 4-6-23; 8:45 am]

BILLING CODE 8026-09-P